DEPARTMENT OF THE INTERIOR

Bureau of Land Management

[CO-110-1060-DC]

Capture of Wild Horses From the West Douglas Herd Area, CO

AGENCY: White River Field Office, Bureau of Land Management, Department of the Interior.

ACTION: Notice of public hearing and notice of intent to gather horses from the West Douglas Herd Area.

SUMMARY: The Bureau of Land Management, White River Field Office has scheduled the capture of wild horses from the West Douglas Herd Area. This removal is scheduled to start during the late summer of 2000 and continue until complete. A public hearing regarding the capture of wild horses from the West Douglas Herd Area, South of Rangely, Colorado will be held at the White River Field Office, Bureau of Land Management.

DATE AND ADDRESSES: Hearing will be held in Meeker, Colorado at the White River Field Office, 73544 HWY 64, on May 15, 2000 at 7:00 pm.

FOR FURTHER INFORMATION CONTACT: Robert Fowler; White River Field Office; 73544 HWY 64, Meeker, Colorado, 81641; Telephone (970) 878-3601.

James Cagney,
Associate White River Field Manager.

[FR Doc. 00-6867 Filed 4-14-00; 8:45 am]

BILLING CODE 4310-JB-P